FEDERAL COMMUNICATIONS COMMISSION

Information Collections Approved by the Office of Management and Budget (OMB)

AGENCY: Federal Communications Commission.

ACTION: Notice.

SUMMARY: The Federal Communications Commission has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid OMB control number. Comments concerning the accuracy of the burden estimates and any suggestions for reducing the burden should be directed to the person listed in the FOR FURTHER INFORMATION CONTACT section below.

FOR FURTHER INFORMATION CONTACT: Matt Warner, Wireline Competition Bureau, Competition Policy Division at 202-418-2418 or e-mail at matthew.warner@fcc.gov.

SUPPLEMENTARY INFORMATION: OMB Control Number: 3060-1157.

OMB Approval Date: September 9, 2011.

OMB Expiration Date: September 30, 2014.

Title: Formal Complaint Procedures, Preserving the Open Internet and Broadband Industry Practices, Report and Order, GN Docket No. 09-191 and WC Docket No. 07-52.

Form Number: N/A.

Estimated Annual Burden: 10 respondents; 15 responses; 2-40 hours per response; 239 burden hours per year; total annual cost burden $40,127.

Obligation to Respond: Required to obtain or retain benefits. Statutory authority for the information collection requirements is contained in 47 U.S.C. 151, 152, 153, 154, 201, 218, 230, 251, 254, 256, 257, 301, 303, 304, 307, 309, 316, 332, 403, 503, 522, 536, 548, 1302. Interpret or apply S. Rep. No. 104-23, at 51 (1995).

Nature and Extent of Confidentiality: Applicants may request that any information supplied be withheld from public inspection, as set forth in section 8.16 of Appendix B of Preserving the Open Internet and Broadband Industry Practices, Report and Order (Open Internet Order), GN Docket No. 09-191, WC Docket No. 07-52, FCC 10-201.

Needs and Uses: The rules adopted in the Open Internet Order establish a formal complaint process to address open Internet disputes that cannot be resolved through other means, including the Commission's informal complaint system. This process will permit anyone—including individual end users and edge providers—to file a claim alleging that another party has violated a rule, and asking the Commission to rule on the dispute. The formal complaint rules will facilitate prompt and effective enforcement of the rules adopted in the Open Internet Order, which is crucial to preserving an open Internet and providing clear guidance to stakeholders.

OMB Control Number: 3060-1158.

OMB Approval Date: September 9, 2011.

OMB Expiration Date: September 30, 2014.

Title: Disclosure of Network Management Practices, Preserving the Open Internet and Broadband Industry Practices, Report and Order, GN Docket No. 09-191 and WC Docket No. 07-52.

Form Number: N/A.

Estimated Annual Burden: 1,477 respondents; 1,477 responses; 32 hours per response (average); 47,264 burden hours per year; total annual cost burden $471,600.

Obligation to Respond: Mandatory. Statutory authority for the information collection requirements is contained in 47 U.S.C. 151, 152, 153, 154, 201, 218, 230, 251, 254, 256, 257, 301, 303, 304, 307, 309, 316, 332, 403, 503, 522, 536, 548, 1302. Interpret or apply S. Rep. No. 104-23, at 51 (1995).

Nature and Extent of Confidentiality: None.

Needs and Uses: The rules adopted in the Open Internet Order require all providers of broadband Internet access service to publicly disclose accurate information regarding the network management practices, performance, and commercial terms of their broadband Internet access services sufficient for consumers to make informed choices regarding use of such services and for content, application, service, and device providers to develop, market, and maintain Internet offerings. The rules ensure transparency and continued Internet openness, while making clear that broadband providers can manage their networks effectively. The Commission anticipates that due to the extent and nature of their services small entities may have less of a burden and larger entities may have more of a burden than the average compliance burden.

Federal Communications Commission.
Marlene H. Dortch,
Secretary.

[FR Doc. 2011-24261 Filed 9-20-11; 8:45 am]

BILLING CODE 6712-01-P